DEPARTMENT OF AGRICULTURE

Forest Service

Supplement to the Draft Environment Impact Statement, Lemolo Watershed Projects, Diamond Lake Ranger District, Umpqua National Forest, Douglas County, Oregon

AGENCY: Forest Service, USDA.

ACTION: Notice of Intent to Supplement to a Draft Environmental Impact Statement.

SUMMARY: The USDA, Forest Service, will prepare a Supplement to the Draft Environmental Impact Statement (EIS) for a variety of connected resource projects within the Lemolo Watershed Projects planning area of the Diamond Lake Ranger District. The Draft Supplemental EIS will describe additional alternatives developed in response to public comments. The additional alternatives address issues related to old-growth forests, and recreation. The projects proposed within the range of alternatives include several timber sales, the construction of temporary and system roads, site preparation, planting, the burning of natural fuels, road decommissioning, and soil restoration. These projects are proposed for implementation in 2003 and 2004. The planning area is located approximately 80 miles east of Roseburg, Oregon. The agency gives notice of the full environmental analysis and decision-making process that will occur on the proposal so that interested and affected people may become aware of how they can participate in the process and contribute to the final decision.

ADDRESSES: Send written comments and suggestions concerning this proposal to John Ouimet, District Ranger, Diamond Lake Ranger District, 2020 Toketee Ranger Station RD, Roseburg, Oregon 97447-9704.

FOR FURTHER INFORMATION CONTACT: Direct questions about the proposed action, or EIS to Pat Williams, ID Team Leader/Project Planner, Diamond Lake Ranger District, 2020 Toketee Ranger Station RD, Idleyld Park, Oregon 97447-9704, or (541) 498-2531.

RESPONSIBLE OFFICIAL: Forest Supervisor James Caplan is the responsible official for this EIS. Mr. Caplan may be contacted at Umpqua National Forest, PO Box 1008, Roseburg, OR 97470.

SUPPLEMENTARY INFORMATION: The Lemolo Watershed Project proposed action was first published in the federal register on April 14, 1999. A public meeting was held at the Douglas County Library on April 21, 1999 along with a subsequent field trip to the planning area in August of 1999. The draft EIS was published in October, 2001. The Forest Service received many comments on the project during the 45 day comment period. Public comments identified issues related to harvest of old-growth timber, and protection of recreation values. Based on public comment, 2 additional alternatives to the proposed action have been developed to address these issues and will be described in the Supplement to the Draft Environmental Impact Statement. A total of 5 alternatives including the No Action and the Proposed Action alternative have been developed.

Public comments are appreciated throughout the analysis process. The draft EIS is expected to be filed with the Environmental Protection Agency (EPA) and be available for public review by July 2002. The comment period on the draft EIS will be 45 days from the date the EPA publishes the notice of availability in the Federal Register. The final EIS is scheduled to be available in October 2002.

The Forest Service believes it is important to give reviewers notice of this early stage of public participation and of several court rulings related to public participation in the environment review process. First, reviewers of a draft EIS must structure their participation in the environmental review of the proposal so that it is meaningful and alerts an agency to the reviewer's position and contentions. Vermont Yankee Nuclear Power Corp. v. NRDC, 435 U.S. 519, 553 (1978). Also, environmental objections that could have been raised at the draft stage may be waived or dismissed by the court if not raised until after completion of the final EIS. City of Angoon v. Hodel, 803 f.2d 1016, 1022 (9th Cir, 1986) and Wisconsin Heritages, Inc. v. Harris, 490 F. Supp. 1334, 1338 (E.D. Wis. 1980). Because of these court rulings, it is very important that those interested in this proposed action participate by the close of the 45-day comment period so substantive comments and objections are made available to the Forest Service at a time when it can meaningfully consider and respond to them in the final EIS.

To assist the Forest Service in identifying and considering issues and concerns on the proposed action, comments on the Supplement to the draft EIS should be as specific as possible. It is also helpful if comments refer to specific pages or chapters of the draft statement. Comments may also address the adequacy of the draft EIS or the merits of the alternatives formulated and discussed in the statement. (Reviewers may wish to refer to the Council on Environmental Quality Regulations for implementing the procedural provisions of the National Environmental Policy Act of 40 CFR 1503.3 in addressing these points.)

In the final EIS, the Forest Service is required to respond to substantive comments and responses received during the comment period that pertain to the environmental consequences discussed in the draft EIS and applicable laws, regulations, and policies considered in making a decision regarding the proposal. The Responsible Official will document the decision and rationale for the decision in a Record of Decision. That decision will be subject to appeal under, 36 CFR Part 215.

Dated: May 7, 2002.
James Caplan,
Forest Supervisor, Umpqua National Forest.

[FR Doc. 02-12646 Filed 5-20-02; 8:45 am]

BILLING CODE 3410-11-M